DEPARTMENT OF EDUCATION

Applications for New Awards; School-Based Mental Health Services Grant Program

AGENCY: Office of Elementary and Secondary Education, Department of Education.

ACTION: Notice.

SUMMARY: The Department of Education (Department) is issuing a notice inviting applications for fiscal year (FY) 2022 for the School-Based Mental Health Services (SBMH) Grant Program, Assistance Listing Number (ALN) number 84.184H. OMB has approved the information collection related to this notice.

DATES:

Applications Available: October 4, 2022.

Deadline for Transmittal of Applications: November 3, 2022.

Pre-Application Webinar Information: The Department will hold pre-application meetings via webinar for prospective applicants on October 11th and 19th, 2022, at 4:00 p.m. Eastern Time.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Amy Banks, U.S. Department of Education, 400 Maryland Avenue SW, Room 3E257, Washington, DC 20202-6450. Telephone: (202) 453-6704. Email: OESE.School.Mental.Health@ed.gov.

If you are deaf, hard of hearing, or have a speech disability and wish to access telecommunications relay services, please dial 7-1-1.

SUPPLEMENTARY INFORMATION:

Full Text of Announcement

I. Funding Opportunity Description

Purpose of Program: The SBMH program provides competitive grants to State educational agencies (SEAs) (as defined in 20 U.S.C. 7801(30)), local educational agencies (LEAs) (as defined in 20 U.S.C. 7801(49), and consortia of LEAs to increase the number of credentialed (as defined in this document) school-based mental health services providers (as defined in 20 U.S.C. 7112(6)) providing mental health services to students in LEAs with demonstrated need (as defined in this document).

Background:

Like good physical health, positive mental health promotes success in life. As defined by the Centers for Disease Control and Prevention (CDC), “Mental health includes our emotional, psychological, and social well-being. It affects how we think, feel, and act. It also helps determine how we handle stress, relate to others, and make healthy choices. Mental health is important at every stage of life, from childhood and adolescence through adulthood.” ¹

¹ www.cdc.gov/mentalhealth/learn/index.htm.

The increases in mental health needs, including those resulting from traumatic events such as the Novel Coronavirus Disease 2019 (COVID-19) pandemic, community violence, and adverse childhood experiences, have brought on challenges for children and youth that impact their overall emotional, psychological, and social well-being and their ability to fully engage in learning. The disruptions in routines, relationships, and the learning environment have led to increased stress and trauma, social isolation, and anxiety.

The Department aims to help address these mental health needs and provide support to students, families, and schools by using the increased funds available from the FY 2022 Appropriations Act and the Bipartisan Safer Communities Act to dramatically increase the number of credentialed school-based mental health services providers in LEAs with demonstrated need through awards in FYs 2022-2026 under the SBMH grant program. The priorities for the FY 2022 competition, described further in this notice, are intended to accomplish this goal by increasing recruitment and retention-related incentives for school-based mental health services providers; promoting the respecialization and professional retraining of existing mental health services providers to qualify them for work in LEAs with demonstrated need; and increasing the diversity, and cultural and linguistic competency, of school-based mental health services providers, including competency in providing identity-safe services.

Note: The provision of medical services by such services providers is not an allowable use of funds under this grant.

Priorities: This competition has two absolute priorities and two competitive preference priorities. These priorities are from the notice of final priorities, requirements, and definitions published elsewhere in this issue of the Federal Register.

Absolute Priority: For FY 2022 and any subsequent year in which we make awards from the list of unfunded applications from this competition, these priorities are absolute priorities. Under 34 CFR 75.105(c)(3), we consider only applications that meet these absolute priorities. Absolute Priority 1 is only applicable to SEAs. Absolute Priority 2 is only applicable to LEAs or consortia of LEAs.

These priorities are:

Priority 1—SEAs Proposing to Increase the Number of Credentialed School-Based Mental Health Services Providers in LEAs with Demonstrated Need.

To meet this priority, an SEA must propose to increase the number of credentialed school-based mental health services providers by implementing plans that address recruitment (as defined in this document) and retention (as defined in this document) of services providers in LEAs with demonstrated need. Applicants must propose plans that include both of the following:

(a) Recruitment. An applicant must propose a plan to increase the number of credentialed services providers serving students in LEAs with demonstrated need.

(b) Retention. An applicant must also propose a plan to increase the likelihood that credentialed services providers providing services in LEAs with demonstrated need stay in their position over time.

Priority 2—LEAs or Consortia of LEAs with Demonstrated Need Proposing to Increase the Number of Credentialed School-Based Mental Health Services Providers.

To meet this priority, an LEA or consortium of LEAs with demonstrated need must propose measures to increase the number of credentialed school-based mental health services providers, including plans to address the recruitment and retention of credentialed services providers in the LEA(s). Applicants must propose plans that include both of the following:

(a) Recruitment. An applicant must propose a plan to increase the number of credentialed services providers serving students in the LEA(s) with demonstrated need.

(b) Retention. An applicant must also propose a plan to improve the likelihood that credentialed services providers providing services in the LEA(s) with demonstrated need stay in their position over time.

Note: The Secretary intends to create two funding slates for SBMH applications, one for applications that meet Absolute Priority 1 (SEA applicants) and a separate slate for applications that meet Absolute Priority 2 (LEA or a consortium of LEA applicants). As a result, the Secretary may fund applications out of the overall rank order.

Competitive Preference Priorities: For FY 2022 and any subsequent year in which we make awards from the list of unfunded applications from this competition, these priorities are competitive preference priorities. Under 34 CFR 75.105(c)(2)(i), we award an additional 5 points for Competitive Preference Priority 1 to any application from an SEA that addresses this priority. We award up to an additional 10 points for Competitive Preference Priority 2 to any application from an SEA, LEA, or consortium of LEAs, depending on how well the application meets the priority. The total number of competitive preference points an SEA applicant may compete for is 15. The total number of competitive preference points an LEA or consortium of LEAs applicant may compete for is 10. As stated previously, these entities will not be competing against one another.

An applicant must clearly identify in the project abstract and the project narrative section of its application the competitive preference priority or priorities it wishes the Department to consider for purposes of earning competitive preference priority points.

These priorities are:

Competitive Preference Priority 1—SEAs Proposing Respecialization, Professional Retraining, or Other Preparation Plan for Existing Mental Health Services Providers to Qualify Them for Work in LEAs with Demonstrated Need. (Up to 5 points)

To meet this priority, an applicant must propose a respecialization (as defined in this document), professional retraining, or other preparation plan that leads to a state credential as a school psychologist, school social worker, school counselor, or other school-based mental health services provider and that is designed to increase the number of services providers qualified to serve in LEAs with demonstrated need.

Competitive Preference Priority 2—Increasing the Number of Credentialed School-Based Mental Health Services Providers in LEAs with Demonstrated Need Who Are from Diverse Backgrounds or from Communities Served by the LEAs with Demonstrated Need. (Up to 10 Points)

To meet this priority, applicants must propose a plan to increase the number of credentialed school-based mental health services providers in LEAs with demonstrated need who are from diverse backgrounds or who are from communities served by the LEAs with demonstrated need.²

² All strategies to increase the diversity of school-based mental health services providers must comply with applicable Federal civil rights laws, including Title VI of the Civil Rights Act of 1964.

Applicants must describe how their proposal to increase the number of school-based mental health services providers who are from diverse backgrounds or who are from the communities served by the LEA with demonstrated need will help increase access to mental health services for students within the LEA with demonstrated need and best meet the mental health needs of the diverse populations of students to be served.

Requirements: These requirements are from the notice of final priorities, requirements, and definitions published elsewhere in this issue of the Federal Register. We are establishing these application and program requirements for the FY 2022 grant competition and any subsequent year in which we make awards from the list of unfunded applications from this competition. Application requirement (a) would apply to SEAs only, and application requirement (b) would apply to LEAs or a consortium of LEAs only. All of the remaining application requirements would apply to all eligible applicants. For FY 2022 and any subsequent year in which we make awards from the list of unfunded applications from this competition, the following requirements apply:

Eligible Applicants: SEAs, as defined in 20 U.S.C. 7801(49), or LEAs, as defined in 20 U.S.C. 7801(30), including consortia of LEAs.

Program Requirements:

(a) Applicants that receive an award under this program must ensure that any school-based mental health services provider hired under this grant, including any services provider that offers telehealth services, is credentialed by the State to work in an elementary school (as defined in 20 U.S.C. 7801(19)) or secondary school (as defined in 20 U.S.C. 7801(45)).

(b) Applicants that receive an award under this program must ensure that any school-based mental health services provider offering services (including telehealth services) does so in an equitable manner and consistent with the Family Educational Rights and Privacy Act (FERPA), the Protection of Pupil Rights Amendment (PPRA), the Individuals with Disabilities Education Act (IDEA), Section 504 of the Rehabilitation Act, and the Americans with Disabilities Act, as well as all other applicable Federal, State, and local laws and profession-specific ethical obligations.

Application Requirements:

(a) Describe the LEAs with demonstrated need designated by the SEA to be served by the proposed project.

SEA applicants must describe the LEAs with demonstrated need designated to benefit from the SBMH program.

(b) Describe how the LEA, or each LEA in the proposed consortium (if applicable), meets the definition of an LEA with demonstrated need.

To meet this requirement, an LEA applicant or the lead LEA submitting an application on behalf of a consortium must describe how the LEA or each LEA in the consortium meets the definition of an LEA with demonstrated need.

(c) Describe the importance and magnitude of the problem.

Applicants must describe the lack of school-based mental health services providers and its effect on students in the LEA(s) to be served by the grant. This must include a description of the nature of the problem for the LEA(s), based on information, including, but not limited to, the most recent available ratios of school-based mental health services providers to students enrolled in the LEA(s), or for SEA applicants, the LEAs designated by the SEA to benefit from the SBMH program. These data must be provided in the aggregate and disaggregated by profession (e.g., school social workers, school psychologists, school counselors) as compared to local, State, or national data. The description may also include LEA-level or school-level demographic data (including rates of poverty; rates of chronic absenteeism; the percentage of students involved in the juvenile justice system, experiencing homelessness, or in foster care; and discipline data), school climate surveys, school violence/crime data, data related to suicide rates, and descriptions of barriers to hiring and retaining credentialed school-based mental health services providers in the LEA.

(d) Logic Model.

The applicant must describe its approach to increase the number of credentialed school-based mental health services providers using a logic model (as defined in 34 CFR 77.1), including the key project components and relevant outcomes (as defined in 34 CFR 77.1). The description should indicate how the proposed approach taken under this program will improve or expand on any previous approaches, how the new approach will address barriers, and how the applicant will sustain the increased number of school-based mental health services providers after the performance period has ended.

(e) Detailed project budget, including matching funds.

To promote the sustainability of the school-based mental health services, all applicants must include non-Federal matching funds in the amount of at least 25 percent of their budgets.

Budgets must describe how the applicant will meet the matching requirement for each budget period awarded under this grant and must indicate the source of the funds, such as State, local, or private resources. The Secretary may consider decreasing or waiving the matching requirement post award, on a case-by-case basis, if an applicant demonstrates a significant financial hardship.

Budgets must also specify the portion of funds that will be used for respecialization, if applicable.

Administrative costs for SEA applicants may not exceed 10 percent of the annual grant award. This includes funding for State-level or LEA-level administrative costs that promote respecialization, if applicable. Administrative costs for applicants that are LEAs and consortia of LEAs may not exceed 5 percent of the annual grant award.

(f) Number of providers.

Applicants must include the most recent available data on the number of school-based mental health services providers in the identified LEA(s), disaggregated by profession (e.g., school social workers, school psychologists, school counselors), and the projected number of school-based mental health services providers that will be placed into employment in the identified LEA(s) for each year of the plan using funds from this grant or matching funds. If applicable, applicants should provide data on the current and projected unduplicated numbers of school-based mental health services providers disaggregated by profession (e.g., school social workers, school psychologists, school counselors), offering telehealth services.

(g) A plan for collaboration and coordination with related Federal, State, and local organizations, and school-based efforts.

Applicants must propose a plan describing how they will collaborate and coordinate with related Federal, State, and local organizations, and school-based efforts (e.g., professional associations; colleges or universities, including Historically Black Colleges and Universities, Minority Serving Institutions, and Tribal Colleges and Universities; local mental health; public health; child welfare; or other community agencies, including school-based health centers), to achieve plan goals and objectives of increasing the number of school-based mental health services providers in LEAs with demonstrated need. The plan must include a description of how such collaboration and coordination will promote program success across multiple programs.

(h) Use of grant funds to supplement, and not supplant, existing school-based mental health services funds and to expand, not duplicate, efforts to increase the number of providers.

Applicants must describe how project funds will supplement, and not supplant, non-Federal funds that would otherwise be available for activities funded under this program.

Applicants must describe how they will use the SBMH program funds to expand, rather than duplicate, existing or new efforts to increase the number of credentialed school-based mental health services providers in LEAs with demonstrated need and how they will integrate existing funding streams and efforts to support the plan.

(i) Plan for prompt delivery of services to students. For SEA applicants, applicants must describe their plan to ensure the prompt delivery of services to students (i.e., as soon as possible, but no later than 180 days from award), including via subgrants to LEAs, as appropriate. For LEA applicants and consortia of LEAs, applicants must describe their plan to ensure the prompt delivery of services to students (i.e., as soon as possible, but no later than 180 days from award). Additionally, SEA and LEA applicants must describe how leaders across all levels of the project will be engaged in the implementation and evaluation of the project.

Definitions:

The definitions of “credentialed,” “LEA with demonstrated need,” “recruitment,” “respecialization,” “retention,” and “telehealth” are from the notice of priorities, requirements, and definitions published elsewhere in this issue of the Federal Register. The following definitions are from 34 CFR 77.1: “ambitious,” “baseline,” “logic model,” “project component,” and “relevant outcome.” The following definitions are from 20 U.S.C. 7801: “local educational agency”, “State educational agency.” The definition of “school-based mental health services provider” is from 20 U.S.C. 7112. These definitions apply to the FY 2022 School-Based Mental Health Services Grant competition and any subsequent year in which we make awards from the list of unfunded applications from this competition.

Ambitious means promoting continued, meaningful improvement for program participants or for other individuals or entities affected by the grant, or representing a significant advancement in the field of education research, practices, or methodologies. When used to describe a performance target, whether a performance target is ambitious depends upon the context of the relevant performance measure and the baseline for that measure.

Baseline means the starting point from which performance is measured and targets are set.

Credentialed means an individual who possesses a valid license or certificate from the SEA or relevant regulatory body as a school psychologist, school counselor, or a school social worker, or other mental health services provider, approved by the State to provide school-based mental health services.

Local educational agency means a public board of education or other public authority legally constituted within a State for either administrative control or direction of, or to perform a service function for, public elementary schools or secondary schools in a city, county, township, school district, or other political subdivision of a State, or of or for a combination of school districts or counties that is recognized in a State as an administrative agency for its public elementary schools or secondary schools.

(a) The term includes any other public institution or agency having administrative control and direction of a public elementary school or secondary school.

(b) The term includes an elementary or secondary school funded by the Bureau of Indian Education but only to the extent that including the school makes the school eligible for programs for which specific eligibility is not provided to the school in another provision of law and the school does not have a student population that is smaller than the student population of the LEA receiving assistance under the Elementary and Secondary Education Act of 1965, as amended (ESEA) with the smallest student population, except that the school shall not be subject to the jurisdiction of any SEA other than the Bureau of Indian Education.

(c) The term includes educational service agencies and consortia of those agencies.

(d) The term includes the SEA in a State in which the SEA is the sole educational agency for all public schools.

LEA with demonstrated need means an LEA that has a significant need for additional school-based mental health services providers based on—

(1) High student to mental health services provider ratios as compared to other LEAs statewide or nationally;

(2) High rates of community violence (including hate crimes), poverty, substance use (including opioid use), suicide, or trafficking; or

(3) A significant number of students who are migratory, experiencing homelessness, have a family member deployed in the military or with a military-service connected disability (including veterans), have experienced a natural or man-made disaster or a traumatic event, or have other adverse childhood experiences, such as repeated disciplinary exclusions from the learning environment.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Recruitment means strategies that help attract and hire credentialed school-based mental health services providers, including by doing at least one of the following:

(1) Providing an annual salary or stipend for school-based mental health services providers who maintain an active national certification.

(2) Providing payment toward the school loans accrued by the school-based mental health services provider.

(3) Creating pathways to grant cross-State credentialing reciprocity for school-based mental health services providers.

(4) Providing incentives and supports to help mitigate shortages. These may include, for example, increasing pay; offering monetary incentives for relocation to high-need areas; providing services via telehealth; creating hybrid roles that allow for leadership, academic, or research opportunities; developing induction programs; developing paid internship programs; focusing on recruitment and support of underrepresented populations; and offering service scholarship programs such as those that provide grants in exchange for a commitment to serve in the LEA for a minimum number of years.

Relevant outcome means the student outcome(s) or other outcome(s) the key project component is designed to improve, consistent with the specific goals of the program.

Respecialization means strategies that provide opportunities for professional retraining and alternative pathways to obtain a state credential, aligned with the standards of the relevant professional organization, as a school-based mental health services provider for individuals who hold, at a minimum, a degree in a related field (e.g., special education, clinical psychology, community counseling), including by doing one or more of the following:

(1) Revising, updating, or streamlining requirements for such individuals so that additional training or other requirements focus only on training needed to obtain a credential as a school-based mental health services provider.

(2) Providing a stipend or making a payment to support the training needed to obtain a credential as a school-based mental health services provider.

(3) Offering flexible options for completing training that leads such professionals to meet State credentialing requirements as a school-based mental health services provider.

(4) Establishing a provisional, time limited, and nonrenewable credential to allow individuals seeking respecialization to provide school-based mental health services under the direct supervision of a fully credentialed school-based mental health services provider of the same profession.

(5) Offering other meaningful activities that result in existing mental health services providers obtaining a state credential as a school-based mental health services provider.

Retention means strategies to help ensure that credentialed individuals stay in their position to avoid gaps in service and unfilled positions, including by—

(1) Providing opportunities for advancement or leadership, such as career pathways programs, recognition and award programs, and mentorship programs; and

(2) Offering incentives and supports to help mitigate shortages. These may include, for example, increasing pay; making payments toward student loans; offering monetary incentives for relocation to high-need areas; providing services via telehealth; offering service scholarship programs, such as those that provide grants in exchange for a commitment to serve in the LEA for a minimum number of years; and developing paid internship programs.

School-based mental health services provider means a State-licensed or State-certified school counselor, school psychologist, school social worker, or other State licensed or certified mental health professional qualified under State law to provide mental health services to children and adolescents.

State educational agency means the agency primarily responsible for the State supervision of public elementary schools and secondary schools.

Telehealth means the use of electronic information and telecommunication technologies to support and promote long-distance clinical health care, patient and professional health-related education, public health, and health administration. Technologies include videoconferencing, the internet, store-and-forward imaging, streaming media, and landline and wireless communications.

Program Authority: 20 U.S.C. 7281.

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The notice of final priorities, requirements, and definitions published elsewhere in this issue of the Federal Register.

II. Award Information

Type of Award: Discretionary grants.

Estimated Available Funds: $143,900,000.

Contingent upon the availability of funds and the quality of applications, we may make additional awards in subsequent years from the list of unfunded applications from this competition.

Estimated Range of Awards: $500,000 to 3,000,000.

Estimated Average Size of Awards: $1,750,000.

Estimated Number of Awards: 50-150.

Note: The Department is not bound by any estimates in this notice.

Project Period: Up to 60 months.

III. Eligibility Information

1. Eligible Applicants: SEAs, as defined in 20 U.S.C. 7801(49), or LEAs, as defined in 20 U.S.C. 7801(30), including consortia of LEAs.

2. Cost Sharing or Matching: a. This program requires cost sharing or matching requirements. See “Application Requirements” in Section I.

b. Indirect Cost Rate Information: This program uses an unrestricted indirect cost rate. For more information regarding indirect costs, or to obtain a negotiated indirect cost rate, please see www2.ed.gov/about/offices/list/ocfo/intro.html.

c. Administrative Cost Limitation: This program involves administrative costs for SEAs, LEAs and consortia of LEAs. See “Application Requirements” in Section I.

3. Supplement-Not-Supplant: This program involves supplement-not-supplant funding requirements. See “Application Requirements” in Section I.

4. Limitation on Awards: a. The Department will make only one award that serves any individual LEA.

b. The Department will only make an award to LEAs that are not subgrantees of a current SBMH project.

5. Subgrantees: Under 34 CFR 75.708(b) and (c) an SEA grantee under this competition may award subgrants to directly carry out project activities described in its application to the following types of entities: LEAs. The SEA grantee may award subgrants to entities it has identified in an approved application or that it selects through a competition under procedures established by the grantees. However, an SEA grantee is not required to award subgrants and may instead administer the program directly.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This competition is subject to Executive Order 12372 and the regulations in 34 CFR part 79. However, under 34 CFR 79.8(a), we waive intergovernmental review in order to make awards by December 31, 2022.

3. Funding Restrictions: We reference regulations outlining funding restrictions in the Applicable Regulations section of this notice. In addition, we remind applicants that sections 4001(a) and 4001(b) of the ESEA (20 U.S.C. 7101) apply to this program. Section 4001(a) requires entities receiving funds under this program to obtain prior, written, informed consent from the parent of each child who is under 18 years of age to participate in any mental-health assessment or service that is funded under this program and conducted in connection with an elementary or secondary school. Section 4001(b) prohibits the use of funds for medical services or drug treatment or rehabilitation, except for integrated student supports, specialized instructional support services, or referral to treatment for impacted students, which may include students who are victims of, or witnesses to, crime or who illegally use drugs. This prohibition does not preclude the use of funds to support mental health counseling and support services, including those provided by a mental health services provider outside of school, so long as such services are not medical.

4. Recommended Page Limit: The application narrative is where you, the applicant, address the selection criteria that reviewers use to evaluate your application. We recommend that you (1) limit the application narrative to no more than 25 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this program are from 34 CFR 75.210. The maximum score for all selection criteria is 100 points. The points assigned to each criterion are indicated in parentheses. Non-Federal peer reviewers will evaluate and score each application program narrative against the following selection criteria:

(a) Need for the Project (10 points).

The Secretary considers the need for the proposed project. In determining the need for the proposed project, the Secretary considers the extent to which specific gaps or weaknesses in services, infrastructure, or opportunities have been identified and will be addressed by the proposed project, including the nature and magnitude of those gaps or weaknesses. (Up to 10 points)

(b) Quality of Project Personnel (30 points).

(1) The Secretary considers the quality of the personnel who will carry out the proposed project. In determining the quality of project personnel, the Secretary considers the extent to which the applicant encourages applications for employment from persons who are members of groups that have traditionally been underrepresented based on race, color, national origin, gender, age, or disability. (Up to 10 points)

(2) In addition, the Secretary considers:

(i) The qualifications, including relevant training and experience, of key project personnel. (Up to 10 points)

(ii) The qualifications, including relevant training and experience, of project consultants or subcontractors. (Up to 10 points)

(c) Quality of Project Design and Project Services (35 points).

(1) The Secretary considers the quality of the design of the proposed project and the quality of the services to be provided by the proposed project. In determining the quality of the design of the proposed project, the Secretary considers the extent to which the goals, objectives, and outcomes to be achieved by the proposed project are clearly specified and measurable. (Up to 10 points)

(2) In determining the quality of the services to be provided by the proposed project, the Secretary considers the quality and sufficiency of strategies for ensuring equal access and treatment for eligible project participants who are members of groups that have traditionally been underrepresented based on race, color, national origin, gender, age, or disability. (Up to 10 points)

(3) In addition, the Secretary considers the extent to which the training or professional development services to be provided by the proposed project are likely to alleviate the personnel shortages that have been identified or are the focus of the proposed project. (Up to 15 points)

(d) Management Plan and Adequacy of Resources (25 points). The Secretary considers the management plan and adequacy of resources for the proposed project. In determining the quality of the management plan and the adequacy of resources for the proposed project, the Secretary considers:

(1) The adequacy of mechanisms for ensuring high-quality products and services from the proposed project. (Up to 10 points)

(2) The relevance and demonstrated commitment of each partner in the proposed project to the implementation and success of the project. (Up to 5 points)

(3) The potential for continued support of the project after Federal funding ends, including, as appropriate, the demonstrated commitment of appropriate entities to such support. (Up to 5 points)

(4) The adequacy of the procedures for ensuring feedback and continuous improvement in the operation of the proposed project. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under this competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purpose of Department reporting under 34 CFR 75.110, we have established the following performance measures for the School-Based Mental Health Services Grant Program:

(a) The unduplicated, cumulative number of new school-based mental health services providers hired for each LEA with demonstrated need as a result of the grant.

(b) The unduplicated, cumulative number of school-based mental health services providers retained in LEAs with demonstrated need as a result of the grant.

(c) The ratio of students to school-based mental health services providers for each LEA with demonstrated need served by the grant, and the numbers of school-based mental health services providers and students used to calculate the ratio.

(d) The attrition rate of school-based mental health services providers for each LEA with a demonstrated need that is participating in the grant.

(e) The total number of students who received school-based mental health services as a result of the grant.

(f) For grantees that addressed competitive preference priority 2, the number of such grantees that met their goal of increasing the diversity of school-based mental health services providers.

These measures constitute the Department's indicators of success for this program. Consequently, we advise an applicant for a grant under this program to give careful consideration to these measures in conceptualizing the approach for its proposed project plan. Each grantee will be required to provide, in its annual performance and final reports, data about its progress in meeting these measures. These data will be considered by the Department in making potential continuation awards.

Consistent with 34 CFR 75.591, grantees funded under this program must meet the requirements of any evaluation of the program conducted by the Department or an evaluator selected by the Department.

Performance measure targets: The applicant must propose annual targets for the measures listed above in their application. Applicants must also provide the following information as directed under 34 CFR 75.110(b) and (c):

(1) An explanation of how each proposed performance target is ambitious (as defined in this notice) yet achievable compared to the baseline (as defined in this notice) for the performance measure.

(2) An explanation of the data collection and reporting methods the applicant would use and why those methods are likely to yield reliable, valid, and meaningful performance data; and

(3) An explanation of the applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project.

The reviewers of each application will score related selection criteria on the basis of how well an applicant has considered these measures in conceptualizing the approach and evaluation of the project.

All grantees must submit an annual performance report and final performance report with information that is responsive to these performance measures.

6. Continuation Awards: In making a continuation award under 34 CFR 75.253, the Secretary considers, among other things, whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, Braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

James F. Lane,
Senior Advisor, Office of the Secretary, Delegated the Authority to Perform the Functions and Duties of the Assistant Secretary for the Office Elementary and Secondary Education.

[FR Doc. 2022-21631 Filed 10-3-22; 8:45 am]

BILLING CODE 4000-01-P